DEPARTMENT OF ENERGY

Federal Energy Regulatory Commission

[Project No. 1988-104]

Pacific Gas & Electric Company; Notice of Availability of Final Environmental Assessment

In accordance with the National Environmental Policy Act of 1969 and the Federal Energy Regulatory Commission's (Commission or FERC) regulations, 18 CFR part 380, Commission staff reviewed Pacific Gas & Electric's (licensee) application for a temporary variance from flow releases under Article 402 of the Haas-Kings Hydroelectric Project No. 1988 and have prepared an Environmental Assessment (EA) for the project.¹ The licensee proposes to eliminate its supplemental release of 15 cubic feet per second (cfs) into Dinkey Creek, as measured at the discharge point by gage KI-31, from January 6 through May 31, 2025, so that it could replace and test a turbine shut-off valve. This replacement requires the dewatering of the Kings River tunnel and penstock, from which the supplemental flows are discharged, and that all other minimum flow requirements in other waterbodies will be maintained. The project is located on Dinkey Creek, 0.31 miles upstream of its connection with the Nork Fork Kings River, in Fresno County, California. The project occupies Federal lands within the Sierra National Forest managed by the U.S. Forest Service, and lands managed by U.S. Army Corps of Engineers, and Bureau of Land Management.

¹ In accordance with the Council on Environmental Quality's regulations, the unique identification number for documents relating to this environmental review is EAXX-019-20-000-1735547792. 40 CFR 1501.5(c)(4) (2024).

The final EA contains Commission staff's analysis of the potential environmental effects of the proposed temporary flow variance, alternatives to the proposed action, and concludes that the proposed variance, would not constitute a major Federal action that would significantly affect the quality of the human environment.

The final EA may be viewed on the Commission's website at https://www.ferc.gov using the “elibrary” link. Enter the docket number (P-1988-104) in the docket number field to access the document. For assistance, contact FERC Online Support at FERCOnline Support@ferc.gov or toll-free at 1-866-208-3676, or for TTY, (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, Tribal members and others, access publicly available information and navigate Commission processes. For public inquiries and assistance with making filings such as interventions, comments, or requests for rehearing, the public is encouraged to contact OPP at (202) 502-6595 or OPP@ferc.gov.

For further information, contact Katie Schmidt at (415) 369-3348 or katherine.schmidt@ferc.gov.

Dated: January 30, 2025.
Debbie-Anne A. Reese,
Secretary.

[FR Doc. 2025-02278 Filed 2-5-25; 8:45 am]

BILLING CODE 6717-01-P